FEDERAL COMMUNICATIONS COMMISSION

47 CFR Part 4

[PS Docket Nos. 21-346; 15-80; ET Docket No. 04-35; DA 22-1343; FR ID 119958]

Resilient Networks; Disruptions to Communications

AGENCY: Federal Communications Commission.

ACTION: Petition for clarification and partial reconsideration; extension of filing replies to oppositions.

SUMMARY: In this document, the Federal Communications Commission (Commission) extends the deadline for filing replies to oppositions to the October 31, 2022 Petition for Clarification and Partial Reconsideration (Petition) filed in the above-captioned proceeding.

DATES: The deadline for filing replies to oppositions in response to the Petition is extended to January 10, 2023.

ADDRESSES: Federal Communications Commission, 45 L Street NE, Washington, DC 20554.

FOR FURTHER INFORMATION CONTACT: Saswat Misra of the Public Safety and Homeland Security Bureau, Cybersecurity and Communications Reliability Division, at (202) 418-0944 or Saswat.Misra@fcc.gov.

SUPPLEMENTARY INFORMATION: This is a summary of the Commission's Order Granting Extension of Time (Order) in PS Docket Nos. 21-346 and 15-80 and ET Docket No. 04-35; DA 22-1343, adopted and released on December 19, 2022. For the full text of this document, visit FCC's website at https://www.fcc.gov/document/pshsb-extends-opposition-reply-deadline-resiliency-proceeding or obtain access via the FCC's Electronic Comment Filing System (ECFS) website at http://www.fcc.gov/ecfs. (Documents will be available electronically in ASCII, Microsoft Word, and/or Adobe Acrobat.) Alternative formats are available for people with disabilities (braille, large print, electronic files, audio format), by sending an email to fcc504@fcc.gov or calling the Commission's Consumer and Governmental Affairs Bureau at (202) 418-0530 (voice), (202) 418-0432 (TTY).

I. Synopsis

1. By this Order, the Public Safety and Homeland Security Bureau (PSHSB) grants a joint request filed by the Competitive Carriers Association (CCA) and CTIA (collectively, Requestors) seeking an extension of 14 days to file Replies to Oppositions in connection with their Petition for Clarification and Partial Reconsideration (Petition) filed in the above-captioned proceeding. See CCA and CTIA Joint Request for Extension of Time to Reply to Oppositions to Petition For Reconsideration, PS Docket Nos. 21-346 and 15-80, ET Docket No. 04-35 (filed Dec. 7, 2022) (Request). For the reasons stated below, PSHSB finds that Requestors' request is warranted, and accordingly extends the deadline for filing Replies to Oppositions to January 10, 2023.

2. On June 27, 2022, the Federal Communications Commission (Commission) adopted a Report and Order addressing improvements to communications reliability during disasters. See Resilient Networks; Amendments to Part 4 of the Commission's Rules Concerning Disruptions to Communications; New Part 4 of the Commission's Rules Concerns Disruptions to Communications, PS Docket Nos. 21-346 and 15-80; ET Docket No. 04-35, Report and Order and Further Notice of Proposed Rulemaking (Report and Order), 87 FR 59329 (Sept. 30, 2022). Requestors filed their Petition on October 31, 2022. See CTIA and Competitive Carriers Association Petition for Clarification and Partial Reconsideration, PS Docket Nos. 21-346 and 15-80; ET Docket No. 04-35 (filed Oct. 31, 2022).

3. On December 2, 2022, the Office of the Federal Register published notice of the Petition in the Federal Register indicating that Oppositions to the Petition would be due on December 19, 2022 and Replies to Oppositions would be due on December 27, 2022. See 87 FR 74102 (Dec. 2, 2022); see also Public Safety and Homeland Security Bureau Announces Filing Deadlines for Oppositions and Opposition Replies to the Petition for Clarification and Partial Reconsideration filed by CTIA and CCA Regarding the Resilient Networks Report and Order, PS Docket Nos. 21-346 and 15-80; ET Docket No. 04-35, Public Notice (PSHSB Dec. 2, 2022); 47 CFR 1.429(f) and (g).

4. On December 7, 2022, Requestors filed the Request seeking a 14-day extension of the deadline for Replies to Oppositions, from December 27, 2022 to January 10, 2023. In doing so, Requestors note that the current schedule provides only eight days, rather than the typical 10 days, between the filing deadlines for Oppositions and Replies to the Oppositions and that the December 26, 2022 federal holiday for Christmas also falls within this time window. Requestors state that the deadline for Replies to Oppositions should be extended to provide sufficient time for Requestors and other parties to “review the record, prepare potential oppositions in this complex proceeding, and develop a complete record for the Commission's consideration.” Requestors further remark that the current schedule “creates significant challenges to the parties' ability to review any oppositions, formulate positions with constituents and member companies, and draft replies that substantively respond to the oppositions to the Petition.” Requestors contend that the requested extension would be consistent with past instances where the Commission has granted extensions of time. No objections to the Request have been filed.

5. As set forth in § 1.46 of the Commission's rules, the Commission does not routinely grant extensions of time for such filings. In this case, however, the requested extension is unopposed, limited to only 14 days, and will allow commenters sufficient time to file meaningful comments given the intervening weekend and Christmas holiday. See 47 CFR 1.46; see also 47 CFR 1.45(e), 47 CFR 1.3. We therefore grant Requestors unopposed Request and set the new deadline for filing Oppositions to Replies to January 10, 2023. The deadline for filing Oppositions remains December 19, 2022.

II. Ordering Clauses

6. Accordingly, it is ordered that, pursuant to section 4(i) and (j) of the Communications Act of 1934, as amended, 47 U.S.C. 154(i) and (j), and §§ 0.204, 0.392, and 1.46 of the Commission's rules, 47 CFR 0.204, 0.392, 1.46, the Request for Extension of Time filed by Requestors is granted.

7. It is further ordered that the date to file Oppositions to Replies in response to the Petition is extended to January 10, 2023.

Federal Communications Commission.
Lauren Kravetz,
Chief of Staff, Public Safety and Homeland Security Bureau.

[FR Doc. 2022-28069 Filed 12-23-22; 8:45 am]

BILLING CODE 6712-01-P